FEDERAL MARITIME COMMISSION

[Petition No. P5-17]

Petition of Ocean Network Express Pte. Ltd. for an Exemption; Notice of Filing and Request for Comments

Notice is hereby given that Ocean Network Express Pte. Ltd. (“Petitioner”), has petitioned the Commission pursuant to 46 CFR 502.94 for an exemption from filing individual service contract amendments.

Petitioner states that it will soon “. . . acquire the assets of the container shipping divisions of Kawasaki Kisen Kaisha, Ltd. (“K Line”); Mitsui O.S.K. Lines, Ltd., (“MOL”); and Nippon Yusen Kaisha (“NYK”) on or about April 1, 2018, at which point [the Petitioner] will operate as an ocean common carrier.” Petitioner states it will obtain approximately 4,800 service contracts from K Line, MOL, and NYK. Petitioner claims “[it] would be an undue burden on [itself] and its shipper parties to prepare and file an individual amendment for each of these service contracts.” Petitioner claims “[the] relief sought in this petition is . . . purely administrative in nature.” Petitioner intends to issue a “. . . notice that will cross-reference [its new] tariffs, which will govern the assigned service contracts, thereby eliminating the need to amend the service contracts to identify the [Petitioner's] tariffs as the governing tariffs.”

In order for the Commission to make a thorough evaluation of the exemption requested in the Petition, interested parties are requested to submit views or arguments in reply to the Petition no later than January 10, 2018. Replies shall be sent to the Secretary by email to Secretary@fmc.gov or by mail to Federal Maritime Commission, 800 North Capitol Street NW, Washington, DC 20573-0001, and replies shall be served on Petitioner's counsels, Wayne R. Rhode, Cozen O' Connor, 1200 19th Street NW, #300, Washington, DC 20036, wrohde@cozen.com, and Joshua P. Stein, Cozen O' Connor, 1200 19th Street NW, #300, Washington, DC 20036, jstein@cozen.com.

Non-confidential filings may be submitted in hard copy to the Secretary at the above address or by email as a PDF attachment to Secretary@fmc.gov and include in the subject line: P5-17 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's website at http://www.fmc.gov/P5-17. Replies filed in response to the Petition will also be posted on the Commission's website at this location.

Rachel E. Dickon,
Assistant Secretary.

[FR Doc. 2017-28442 Filed 1-3-18; 8:45 am]

BILLING CODE 6731-AA-P